UNITED STATES INSTITUTE OF PEACE

Notice of Meeting

Date and Time: Wednesday, June 14, 2006, 9:15 a.m.-4 p.m.

Location: 1200 17th Street, NW., Suite 200, Washington, DC 20036-3011.

Status: Open Session—Portions may be closed pursuant to Subsection (c) of Section 552(b) of Title 5, United States Code, as provided in subsection 1706(h)(3) of the United States Institute of Peace Act, Public Law 98-525.

Agenda: June 14, 2006 Board Meeting; Approval of Minutes of the One Hundred Twenty-Second Meeting (March 30, 2006) of the Board of Directors; Chairman's Report; President's Report; Selection of Solicited Grant Topics for March 2006 Grants Cycle; Selection of National Peace Essay Contest Winners; Review and Discussion of Select USIP Policies; Other General Issues.

Contact: Tessie F. Higgs, Executive Office, Telephone: (202) 429-3836.

Dated: May 24, 2006.
Patricia P. Thomson,
Executive Vice President, United States Institute of Peace.

[FR Doc. 06-4954 Filed 5-25-06; 10:41am]

BILLING CODE 6820-AR-M